DEPARTMENT OF TRANSPORTATION

Federal Railroad Administration

[Docket Number FRA-2019-0043]

Notice of Application for Approval of Discontinuance or Modification of a Railroad Signal System

Under part 235 of Title 49 of the Code of Federal Regulations (CFR) and 49 U.S.C. 20502(a), this document provides the public notice that by a document dated May 23, 2019, Union Pacific Railroad Company (UP) petitioned the Federal Railroad Administration (FRA) seeking approval to discontinue or modify a signal system. FRA assigned the petition Docket Number FRA-2019-0043.

Applicant: Union Pacific Railroad Company, Mr. Neal E. Hathaway, AVP Engineering—Signal & Telecom, 1400 Douglas Street, MS 0910, Omaha, NE 68179.

Specifically, UP requests approval to discontinue cab signals between control point (CP) S001 at milepost (MP) 0.60 and CP S082 at MP 81.60 on the Portland subdivision in the state of Oregon.

UP states the reason for the proposed discontinuance is a positive train control (PTC) system, compliant with 49 CFR part 236, subpart I, and certified accordingly, was placed in service on the entire Portland subdivision, including the limits described above, in March 2017. Since that time, over 2.5 million train-miles of PTC operations have been accumulated on the Portland subdivision without a critical anomaly. Additionally, PTC operations have been conducted under the provisions of a waiver, Docket Number FRA-2016-0108, which allows for the use of PTC in lieu of cab signals on the Portland subdivision and elsewhere on UP where automatic cab signal (ACS), automatic train control, and automatic train stop systems are present.

To ensure that an equivalent or greater level of safety is maintained upon discontinuance of the ACS and to meet the requirements of 49 U.S.C. 20157(j)(1), UP asserts it will promulgate operating rules requiring that any train on which PTC fails to initialize, cuts out, or malfunctions comply with operating restrictions in accordance with 49 CFR 236.1029, while operating within former ACS limits of the Portland subdivision. UP explains it believes that the combination of the current levels of PTC reliability and, utilization, combined with the application of operating restrictions under failure conditions result in a level of safe operation which justifies discontinuance of the ACS system on the Portland subdivision.

A copy of the petition, as well as any written communications concerning the petition, is available for review online at www.regulations.gov and in person at the U.S. Department of Transportation's (DOT) Docket Operations Facility, 1200 New Jersey Avenue SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Avenue SE, W12-140, Washington, DC 20590.

• Hand Delivery: 1200 New Jersey Avenue SE, Room W12-140, Washington, DC 20590, between 9 a.m. and 5 p.m., Monday through Friday, except Federal Holidays.

Communications received by July 26, 2019 will be considered by FRA before final action is taken. Comments received after that date will be considered if practicable.

Anyone can search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Issued in Washington, DC.
John Karl Alexy,
Acting Associate Administrator, Office of Railroad Safety.

[FR Doc. 2019-12235 Filed 6-10-19; 8:45 am]

BILLING CODE 4910-06-P